FEDERAL COMMUNICATIONS COMMISSION

47 CFR Part 27

[WT Docket No. 07-293; IB Docket No. 95-91; GEN Docket No. 90-357; RM-8610; FCC 12-130]

Operation of Wireless Communications Services in the 2.3 GHz Band; Establishment of Rules and Policies for the Digital Audio Radio Satellite Service in the 2310-2360 MHz Frequency Band

AGENCY: Federal Communications Commission.

ACTION: Final rule; announcement of effective date.

SUMMARY: In this document, the Commission announces that certain rules revised in the Amendment of part 27 of its rules to Govern the Operation of Wireless Communications Services in the 2.3 GHz Band, WT Docket No. 07-293; establishment of rules and policies for the Digital Audio Radio Satellite Service in the 2310-2360 MHz Frequency Band (WCS and SDARS) proceeding in IB Docket No. 95-91, GEN Docket No. 90-357, RM-8610; FCC 12-130, to the extent it contained information collection requirements that required approval by the Office of Management and Budget (OMB) was approved on October 31, 2013. This notice is consistent with the Order on Reconsideration, which stated that the Commission would publish a document in the Federal Register announcing the effective date of those rules.

DATES: 47 CFR 27.72(b) and 47 CFR 27.73(a), published at 78 FR 9605, February 11, 2013, are effective November 25, 2013.

FOR FURTHER INFORMATION CONTACT: Linda Chang, Federal Communications Commission, Wireless Telecommunications Bureau, 445 12th St. SW., Washington, DC 20554 at (202) 418-1339.

SUPPLEMENTARY INFORMATION: This document announces that, on October 31, 2013, OMB approved, for a period of three years, the revised information collection requirements relating to the access stimulation rules contained in the Commission's Order on Reconsideration, FCC 12-130, published at 78 FR 9605, February 11, 2013. The OMB Control Number is 3060-1159. The Commission publishes this notice as an announcement of the effective date of the rules.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on October 31, 2013, for the information collection requirements contained in the modifications to the Commission's rules in 47 CFR part 27.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1159.

The foregoing notice is required by the Paperwork Reduction Act of 1995, Public Law 104-13, October 1, 1995, and 44 U.S.C. 3507.

The total annual reporting burdens and costs for the respondents are as follows:

OMB Control Number: 3060-1159.

OMB Approval Date: October 31, 2013.

OMB Expiration Date: October 31, 2016.

Title: Part 25—Satellite Communications; and part 27—Miscellaneous Wireless Communications Services in the 2.3 GHz Band.

Form Number: N/A.

Respondents: Business or other for-profit entities.

Number of Respondents: 158 respondents; 5,605 responses.

Estimated Time per Response: .5 hours to 40 hours.

Frequency of Response: On occasion and quarterly reporting requirements, recordkeeping requirement and third party disclosure requirements.

Obligation to Respond: Required to obtain or retain benefits. Statutory authority for this information collection is contained in 47 U.S.C. 154, 302(a), 303, 309, 332, 336 and 337 of the Communications Act of 1934, as amended.

Total Annual Burden: 24,572 hours.

Total Annual Cost: $661,950.

Privacy Impact Assessment: No impact(s).

Nature and Extent of Confidentiality: There is no need for confidentiality with this collection of information.

Needs and Uses: On October 17, 2012, the Commission adopted an Order on Reconsideration in WT Docket No. 07-293, IB Docket No. 95-91, GEN Docket No. 90-357, FCC 12-130, which affirmed, modified and clarified the 1st and 2nd Report and Orders.

Among the actions taken in the Order on Reconsideration:

• Revised the technical rules to enhance the ability of WSC licensees to deploy mobile broadband networks while establishing additional safeguards to protect neighboring SDARS, AMT and DSN networks from harmful interference.

• Prohibited WCS mobile and portable devices' transmissions in WCS Blocks C and D to further protect SDARS operations.

• Relaxed the WCS licensee notification requirements regarding low-power WCS stations and minor WCS station modifications, and clarified WCS notification and coordination procedures.

• Restarted and provided a limited extension of the WCS performance period to enable licensees to respond to revisions of technical rules.

The information filed by WCS licensees in support of their construction notifications will be used to determine whether licensees have complied with the Commission's performance benchmarks. Further, the information collected by licensees in support of their coordination obligations will help avoid harmful interference to SDARS, AMT and DSN operations in other spectrum bands.

Federal Communications Commission.
Gloria J. Miles,
Federal Register Liaison, Office of the Secretary, Office of Managing Director.

[FR Doc. 2013-28118 Filed 11-22-13; 8:45 am]

BILLING CODE 6712-01-P